DEPARTMENT OF HOMELAND SECURITY

Bureau of Customs and Border Protection

Notice of Cancellation of Customs Broker Permit

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker local permits are canceled without prejudice.

Name | Permit No. | Issuing port
Godwin Shipping Company, Inc | 19-03-H39 | Mobile.
Kamino International Transport, Inc | 00-014 | Houston.
Steven Hsien-Lin Wang dba WHL Customs Broker Services | 200108 | Los Angeles.
Dynamic Ocean Services International, Inc | 94-2101-1 | Houston.
James P. Cesped | 26-02-WSK | Nogales.
Marvin Madden | 19-03-J20 | Mobile.
David Meth | DF5 | Miami.
Robert Conyers | 52-03-AUR | Miami.

Dated: March 18, 2005.
William S. Heffelfinger III,
Acting Assistant Commissioner, Office of Field Operations.

[FR Doc. 05-6104 Filed 3-28-05; 8:45 am]

BILLING CODE 4820-02-P